DEPARTMENT OF JUSTICE

Office of Justice Programs

Agency Information Collection Activities: Proposed Collection; Comments Requested

ACTION: 30-day notice of information collection under review: Annual Survey of Jails.

The Department of Justice (DOJ), Office of Justice Programs, Bureau of Justice Statistics has submitted the following information collection request to the Office of Management and Budget (OMB) for review and approval in accordance with the Paperwork Reduction Act of 1995. The proposed information collection was previously published in the Federal Register Volume 68, Number 128, on page 39973, on July 3, 2003, allowing for a 60-day comment period.

The purpose of this notice is to allow for an additional 30 days for public comment until October 30, 2003. This process is in accordance with 5 CFR 1320.10.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g., permitting electronic submission of responses.

Overview of This Information Collection

(1) Type of information collection: Revision of a currently approved collection.

(2) The title of the Form/Collection: The Annual Survey of Jails (ASJ).

(3) Agency form number, if any, and the applicable component of the Department of Justice sponsoring the collection: Form Number: CJ-5, CJ-5A, CJ-5B, CJ-5B Addendum, and CJ-5C, Bureau of Justice Statistics, Office of Justice Programs, United States Department of Justice.

(4) Affected public who will be asked to respond, as well as a brief abstract: Primary: County and City jail authorities and Tribal authorities. This form is the only collection effort that provides an ability to maintain important jail statistics in the years between the jail censuses. The ASJ enables the Bureau; Federal, State, and local correctional administrators; legislators; researchers; and planners to track growth in the number of jails and their capacities nationally; as well as track changes in the demographics and supervision status of jail population and the prevalence of crowding.

(5) An estimate of the total number of respondents and the amount of time estimated for an average respondent to respond: Nine hundred and forty-six respondents each taking an average of 75 minutes to respond for collection forms CJ-5, CJ-5A, and, CJ-5B. Seventy respondents each taking an average of 30 minutes to respond for collection form CJ-5B Addendum. One hundred and twenty respondents each taking an average of 4 hours to respond for collection form CJ-5C.

(6) An estimate of the total public burden (in hours) associated with the collection: There are an estimated 1,698 annual total burden hours associated with the collection.

If additional information is required, contact: Mrs. Brenda E. Dyer, Deputy Clearance Officer, Policy and Planning Staff, Justice Management Division, U.S. Department of Justice, 601 D Street, NW., Patrick Henry Building, Suite 1600, Washington, DC 20503.

Dated: September 23, 2003.
Brenda E. Dyer,
Deputy Clearance Officer, United States Department of Justice.

[FR Doc. 03-24665 Filed 9-29-03; 8:45 am]

BILLING CODE 4410-18-M